DEPARTMENT OF HOMELAND SECURITY

Office of the Secretary

United States Secret Service Protective Mission Panel

AGENCY: Office of the Secretary, Department of Homeland Security.

ACTION: Committee management: notice of committee establishment.

SUMMARY: In order to facilitate an effective review of the security provided by the U.S. Secret Service to the White House compound, the Department of Homeland Security (Department or DHS) is creating the U.S. Secret Service Protective Mission Panel (USSSPMP or Panel). Pursuant to the Homeland Security Act of 2002, the Department is taking immediate measures to establish this independent panel of experts to inquire into recent incidents at the White House compound and to provide to the Secretary of Homeland Security recommendations for potential new directors of the U.S. Secret Service and whether there should be a broader review of the U.S. Secret Service.

Name of Committee: U.S. Secret Service Protective Mission Panel.

FOR FURTHER INFORMATION CONTACT: Peter Boogaard, Office of Public Affairs, (202) 282-8010, MediaInquiry@HQ.DHS.GOV.

SUPPLEMENTARY INFORMATION:

I. Background

DHS is establishing an independent panel to review the recent fence jumping incident at the White House on September 19, 2014 and related issues concerning security at the White House compound; to provide recommendations for potential new directors of the Secret Service; and to recommend whether there should be a broader review of the Secret Service. This time-sensitive and important review will entail discussion of classified information.

This Department has recognized in the past that some highly critical issues cannot be discussed in public without jeopardizing the security and confidentiality of sensitive homeland security information. For example, in 2006, the Department established the Critical Infrastructure Partnership Advisory Council (CIPAC) to aid in the communication and coordination between critical private sector entities and the Federal agencies charged with regulating them. See 71 FR 14930 (Mar. 24, 2006). Discussions between the members of that Council involve intelligence and law enforcement information and remain non-public to avoid giving our nation's enemies information they could use to effectively attack a particular infrastructure.

Many of the issues to be reviewed by the Panel will require access to, and discussion of, non-public classified information and other non-public law enforcement sensitive information. These matters include protective measures at the White House, sensitive law enforcement techniques and methods, and the management of these protective and law enforcement missions of the Secret Service.

II. Identifying Solutions

The Department recognizes the importance of the Federal Advisory Committee Act (FACA). The FACA, when it applies, generally requires advisory committees to meet in open session and make publicly available associated written materials. It also requires a 15-day notice before any meeting may be closed to public attendance. These requirements, however, would prevent the Department from convening on short notice a panel to discuss the sensitive and classified information surrounding the review of protective measures at the White House compound and other U.S. Secret Service law enforcement missions in an appropriate setting. The FACA contains a number of exceptions to its general disclosure rules, but the applicability of those exceptions are not sufficient to address the proper handling of classified material and the protection of law enforcement sensitive information in this unique context. The information that will be discussed and reviewed by this panel will be deliberative in nature and will involve classified information that, if discussed in public, would result in the unauthorized disclosure of information that could reasonably be expected to result in threats or damage to national security. Furthermore, the information discussed will involve techniques and procedures for law enforcement investigations. The release of this information would enable criminals and enemies to use that information to circumvent the law and could reasonably be expected to endanger the life or physical safety of individuals.

Section 871 of the Homeland Security Act provides the Secretary of Homeland Security with the authority to establish advisory committees and exempt them from the FACA. 6 U.S.C. 451(a). This authority allows the Department to freely and completely review the security procedures, to discuss potential vulnerabilities, and to provide the Department with information and recommendations that otherwise could not be discussed.

III. Exercise of Section 871 Authority To Establish the U.S. Secret Service Protective Mission Panel

The Department respects the principles of open government and has judiciously exercised the authority Congress provided in Section 871. Given that the use of this authority will allow the Department to fully and completely review the issues and make recommendations surrounding the U.S. Secret Service as described above, the Department is invoking that authority.

Collaboration among the panel members must involve many activities to include: planning, coordination, protective security implementation, operational activities related to protective service security measures, as well as leadership issues, vulnerabilities, protective measures, best practices, and lessons learned. An effective panel must be able to have ongoing, immediate, and multi-directional communication and coordination under highly exigent circumstances.

In furtherance of DHS' mission to provide protective services, the public interest requires the establishment of the Panel under the authority of 6 U.S.C. 451. The Panel will review recent incidents, provide recommendations on potential new directors, and recommend whether there should be a broader review of the Secret Service. The Panel will interact with federal officials and representatives from the security and law enforcement communities. The Panel has no authority to establish Federal policy or otherwise undertake inherently governmental functions.

Exemption from the FACA (Pub. L. 92-463): In recognition of the highly-sensitive, and often confidential or classified nature of the subject matter involved in the activities of the USSSPMP, under the authority of section 871 of the Homeland Security Act of 2002 (6 U.S.C. 451), the panel is hereby deemed exempt from the requirements of Public Law 92-463 (5 U.S.C. App.). The decision to exercise the exemption authority in section 871 will support the free flow of classified and law enforcement sensitive information concerning U.S. Secret Service protective measures and its operations as a law enforcement organization.

IV. Membership and Structure

The specific membership of the USSSPMP will consist of individuals with expertise in: (a) National security, (b) protective security, (c) leading complex organizations, and (d) other experts as the investigation dictates. The members are identified below at Appendix A.

Membership Status: Non-Federal members of the USSSPMP serve as special government employees.

Meetings: The USSSPMP may meet as a whole or in any combination of subgroups that is most conducive to the effective conduct of its activities including, without limitation, in groups encompassing discrete topics to address specific issues and concerns (e.g., a meeting of the members to discuss security specific issues, or a meeting of leaders of complex organizations). As independent bodies, meetings consisting solely of members of these subgroups shall not constitute meetings of the USSSPMP. In addition, the USSSPMP may establish informal working groups for the purpose of fact-finding, issue development, or other preliminary non-deliberative activities. Such activities in support of the USSSPMP shall also be within the scope of the exemption noted above.

Duration of Committee: Six months, subject to extension pursuant to section 871(b) of the Homeland Security Act of 2002 (6 U.S.C. 451(b)).

Dated: October 15, 2014.
Jeh Charles Johnson,
Secretary.

Appendix A—Membership of the U.S. Secret Service Protective Mission Panel

Thomas J. Perrelli

Mark Filip

Danielle C. Gray

Joseph W. Hagin

[FR Doc. 2014-25052 Filed 10-21-14; 8:45 am]

BILLING CODE 9110-9B-P